DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[6/23/2015 through 7/2/2015]
Firm name | Firm address | Date accepted for investigation | Product(s)
Steward Plastics, Inc. d/b/a Smooth-Bor Plastics | 23322 Del Lago Drive, Laguna Hills, CA 92653 | 6/29/2015 | The firm manufactures medical tubing and residential construction tubing for various applications.
Astro Tool Corporation | 21615 Southwest Tualatin-Valley Highway, Beaverton, OR 97003 | 6/30/2015 | The firm manufactures hand tools for crimping and accessories.
Pompanoosuc Mills Corporation | 3184 Route 5, East Thetford, VT 05043 | 6/29/2015 | The firm manufactures hand crafted hardwood furniture and upholstered furniture.
Etron, Inc | 1410 Peruville Road, Freeville, NY 13068 | 6/30/2015 | The firm manufactures micro programmable controllers used as variable speed vacuum controllers.
Corry Rubber Corporation | 601 West Main Street, Corry, PA 16407 | 7/2/2015 | The firm manufactures molded and extruded rubber products for the automotive, aerospace and other industrial markets.
Criterion Technology, Inc | 101 McIntosh Parkway, Thomaston, GA 30286 | 7/1/2015 | The firm manufactures optical quality polymer dome covers and parts.
KAM Manufacturing, Inc | 1197 Grill Road, Van Wert, OH 45891 | 7/1/2015 | The firm manufactures handbags with outer surface textile.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: July 2, 2015.
Michael S. DeVillo,
Eligibility Examiner.

[FR Doc. 2015-16770 Filed 7-8-15; 8:45 am]

BILLING CODE 3510-WH-P